FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 4, 2002.

A. Federal Reserve Bank of Boston (Richard Walker, Community Affairs Officer) 600 Atlantic Avenue, Boston, Massachusetts 02106-2204:

1. Santo P. Pasqualucci, Falmouth, Massachusetts; to acquire voting shares of Falmouth Bancorp, Inc., Falmouth, Massachusetts, and thereby indirectly acquire voting shares of Falmouth Co-operative Bank, Falmouth, Massachusetts.

B. Federal Reserve Bank of Philadelphia (Michael E. Collins, Senior Vice President) 100 North 6th Street, Philadelphia, Pennsylvania 19105-1521:

1. Albert V. Schulze and Michelle A. Schulze, Orwigsburg, Pennsylvania, Albert V. Schulze (custodian for Alan Jacob Schulze, Rebecca Lauren Schulze, Cameron Prescott Keener, Christian James Keener, and Sara Anne Graver), Michelle Schulze (custodian for Zachary David Garland, Alex Nicholas Pellish, Jillian Michelle Pellish, Brianna Noel Horn, and William I. Horn, III), Dale Keener, Hamburg, Pennsylvania, and Janet Keener, Hamburg, Pennsylvania; to retain shares of Union Bancorp, Inc., Pottsville, Pennsylvania, and thereby indirectly retain voting shares of Union Bank and Trust Company, Pottsville, Pennsylvania.

Board of Governors of the Federal Reserve System, December 17, 2001.
Robert deV. Frierson,
Deputy Secretary of the Board.

[FR Doc. 01-31439 Filed 12-20-01; 8:45 am]

BILLING CODE 6210-01-S